NUCLEAR REGULATORY COMMISSION

[Docket No. 50-0346; NRC-2022-0138]

Energy Harbor Nuclear Corp. and Energy Harbor Nuclear Generation LLC; Davis-Besse Nuclear Power Station, Unit No. 1

AGENCY: Nuclear Regulatory Commission.

ACTION: Environmental assessment and finding of no significant impact; issuance.

SUMMARY: The U.S. Nuclear Regulatory Commission (NRC) is considering issuance of an amendment to Renewed Facility Operating License No. NPF-3, issued on December 8, 2015, and held by Energy Harbor Nuclear Corp. (EHNC) and Energy Harbor Nuclear Generation LLC for the operation of Davis-Besse Nuclear Power Station, Unit No. 1 (Davis-Besse). The proposed amendment would revise the emergency plan for Davis-Besse by changing the emergency response organization (ERO) requirements. The NRC is issuing an environmental assessment (EA) and finding of no significant impact (FONSI) associated with the proposed license amendment.

DATES: The EA and FONSI referenced in this document are available on July 21, 2022.

ADDRESSES: Please refer to Docket ID NRC-2022-0138 when contacting the NRC about the availability of information regarding this document. You may obtain publicly available information related to this document using any of the following methods:

• Federal Rulemaking Website: Go to https://www.regulations.gov and search for Docket ID NRC-2022-0138. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Blake A. Purnell, Office of Nuclear Reactor Regulation, U.S. Nuclear Regulatory Commission, Washington, DC 20555-0001, telephone: 301-415-1380, email: Blake.Purnell@nrc.gov.

SUPPLEMENTARY INFORMATION:

I. Introduction

By letter dated January 19, 2022 (ADAMS Accession No. ML22019A236), as supplemented by letter dated July 5, 2022 (ADAMS Accession No. ML22186A121), EHNC submitted a request to amend Renewed Facility Operating License No. NPF-3, issued to EHNC and Energy Harbor Nuclear Generation LLC, for the operation of Davis-Besse, which is located in Ottawa County, Ohio. The proposed amendment would revise the emergency plan for Davis-Besse by changing the ERO staffing requirements. The changes include eliminating ERO positions; adding ERO positions; changing position descriptions, titles, duties, and duty locations; changing response times; and relocating certain position descriptions to other parts of the emergency plan or to implementing procedures.

Each licensee for a nuclear power plant is required to establish an emergency plan to be implemented in the event of an accident in accordance with section 50.47 and appendix E of title 10 of the Code of Federal Regulations (10 CFR). The emergency plan covers preparation for evacuation, sheltering, and other actions to protect individuals near the plant in the event of an accident. An effective emergency preparedness program decreases the likelihood of an initiating event at a nuclear power plant proceeding to a severe accident. Emergency preparedness cannot affect the probability of the initiating event, but a high level of emergency preparedness increases the probability of accident mitigation if the initiating event proceeds beyond the need for initial operator actions.

The regulations in 10 CFR 50.54(q)(2) require licensees for nuclear power plants to follow and maintain the effectiveness of an emergency plan that meets the standards in 10 CFR 50.47(b) and the requirements in 10 CFR part 50, appendix E. Sections 50.54(q)(3) and (4) specify the process by which a licensee may make changes to its emergency plan. In accordance with 10 CFR 50.54(q)(4), EHNC submitted the January 19, 2022, license amendment request, pursuant to 10 CFR 50.90, to obtain NRC approval of the proposed changes to the Davis-Besse emergency plan prior to implementation.

The NRC staff is considering approval of the January 19, 2022, license amendment request for Davis-Besse. Therefore, as required by 10 CFR 51.21, the NRC performed an EA. Based on the results of the EA that follows, the NRC has determined not to prepare an environmental impact statement for the proposed licensing action and is issuing a FONSI.

In addition to this EA, the NRC is conducting a safety evaluation of EHNC's proposed changes to the emergency plan for Davis-Besse, which will be documented separately. The safety evaluation of the proposed changes to the emergency plan will determine whether there continues to be reasonable assurance that adequate protective measures can and will be taken in the event of a radiological emergency at Davis-Besse, in accordance with the standards of 10 CFR 50.47(b) and the requirements in 10 CFR part 50, appendix E.

II. Environmental Assessment

Description of the Proposed Action

The proposed action would revise the ERO requirements identified in the emergency plan for Davis-Besse, including the on-shift, minimum, and full-augmentation ERO staffing requirements. The proposed revisions include eliminating ERO positions; adding ERO positions; changing position descriptions, titles, duties, and duty locations; changing response times, and relocating certain position descriptions to other parts of the emergency plan or to implementing procedures. Overall, staffing levels are not expected to increase.

The proposed action is in accordance with EHNC's application dated January 19, 2022.

Need for the Proposed Action

The proposed action would align the emergency plan for Davis-Besse with the NRC's alternative guidance for EROs provided in a June 12, 2018, letter to the Nuclear Energy Institute (ADAMS Accession No. ML18022A352). This alternative guidance is also included in NUREG-0654/FEMA-REP-1, Revision 2, “Criteria for Preparation and Evaluation of Radiological Emergency Response Plans and Preparedness in Support of Nuclear Power Plants,” dated December 2019 (ADAMS Accession No. ML19347D139). This change would provide EHNC with greater flexibility in staffing ERO positions. The application states that EHNC discussed the proposed changes to the emergency plan with the offsite response organizations for the State of Ohio, Ottawa County, and Lucas County, and that these organizations had no concerns.

Environmental Impacts of the Proposed Action

The proposed action consists of changes related to staffing positions, position descriptions, titles, duties, duty locations, and response times specified in the emergency plan for Davis-Besse. The on-shift, minimum, and full-augmentation ERO staffing requirements listed in the emergency plan would be revised. The proposed revisions include eliminating ERO positions; adding ERO positions; changing position descriptions, titles, duties, and duty locations; changing response times, and relocating certain position descriptions to other parts of the emergency plan or to implementing procedures.

The proposed changes would have no impact on nonradiological resources, such as land use or water resources, including terrestrial and aquatic biota, as they involve no new construction, ground disturbing activities, or modification of plant operational systems. There would be no changes to the quality or quantity of nonradiological effluents and no changes to the plant's National Pollutant Discharge Elimination System permit as a result of the proposed amendment. The overall staffing levels are not expected to increase; therefore, worker vehicle air emissions are not expected to increase, and established threshold emissions set forth in 40 CFR 93.153(b) for designated nonattainment or maintenance areas would not be exceeded. Since the proposed changes will not increase staffing levels and will not involve ground disturbing activities, modification of plant operation systems, or new construction, there would be no noticeable effect on socioeconomic conditions in the region, no environment justice impacts, and no impacts to historic and cultural resources from the proposed changes. Therefore, there would be no significant nonradiological environmental impacts associated with the proposed action.

With regard to potential radiological environmental impacts, the proposed action would not increase the probability or consequences of radiological accidents because the emergency plan must continue to meet the standards of 10 CFR 50.47(b) and the requirements in 10 CFR part 50, appendix E. There would be no change to the types or amounts of radioactive effluents that may be released and, therefore, no change in occupational or public radiation exposure from the proposed changes. Moreover, no changes would be made to plant buildings or the site property from the proposed changes. Therefore, there would be no significant radiological environmental impacts associated with the proposed action.

Environmental Impacts of the Alternatives to the Proposed Action

As an alternative to the proposed action, the NRC staff considered denial of the license amendment request (i.e., the “no-action” alternative). Denial of the license amendment request would result in no change to current environmental impacts. Accordingly, the environmental impacts of the proposed action and the no-action alternative would be similar.

Alternative Use of Resources

There are no unresolved conflicts concerning alternative uses of available resources under the proposed action.

Agencies and Persons Consulted

No additional agencies or persons were consulted regarding the environmental impact of the proposed action.

III. Finding of No Significant Impact

EHNC has requested a license amendment pursuant to 10 CFR 50.90 to revise the emergency plan for Davis-Besse by eliminating ERO positions; adding ERO positions; changing position descriptions, titles, duties, and duty locations; changing response times, and relocating certain position descriptions to other parts of the emergency plan or to implementing procedures. The NRC staff is considering issuance of the requested amendment.

Consistent with 10 CFR 51.21, the NRC staff conducted an EA of the proposed action, which is provided in Section II of this notice and is incorporated by reference in this FONSI. Based on this EA, the NRC staff has concluded that the proposed action will not have a significant impact on the quality of the human environment. Accordingly, the NRC staff has determined there is no need to prepare an environmental impact statement for the proposed action.

Previous considerations regarding the environmental impacts of operating Davis-Besse, in accordance with its renewed facility operating license, are described in NUREG-1437, Supplement 52, “Generic Environmental Impact Statement for License Renewal of Nuclear Plants: Regarding Davis-Besse Nuclear Power Station,” Final Report, Volumes 1 and 2 (ADAMS Accession Nos. ML15112A098 and ML15113A187, respectively), dated April 2015.

This FONSI and other related environmental documents may be examined, and/or copied for a fee, at the NRC's PDR, located at Room P1 B35, One White Flint North, 11555 Rockville Pike, Rockville, Maryland 20852. Publicly available records are also accessible online in the ADAMS Public Documents collection at https://www.nrc.gov/reading-rm/adams.html. Persons who do not have access to ADAMS or who encounter problems in accessing the documents located in ADAMS should contact the NRC's PDR reference staff by telephone at 1-800-397-4209 or 301-415-4737, or by email to PDR.Resource@nrc.gov.

Dated: July 14, 2022.
For the Nuclear Regulatory Commission.
Blake A. Purnell,
Project Manager, Plant Licensing Branch III, Division of Operating Reactor Licensing, Office of Nuclear Reactor Regulation.

[FR Doc. 2022-15566 Filed 7-20-22; 8:45 am]

BILLING CODE 7590-01-P